DEPARTMENT OF TRANSPORTATION

Federal Aviation Administration

[Docket No.: FAA-2025-0906]

Experimental Aircraft “All Makes and Models” Program

AGENCY: Federal Aviation Administration (FAA), Department of Transportation (DOT).

ACTION: Notice; reopening of comment period.

SUMMARY: This action reopens the comment period for notice published on May 9, 2025, titled “Experimental Aircraft All Makes and Models Program.” The notice informed operators of certain experimental aircraft of a new program that enables certain pilots to receive authorization to act as pilot in command (PIC) of certain experimental aircraft by completing aircraft-specific ground and flight training without taking a practical test. The FAA implements this program in accordance with Section 806 of the FAA Reauthorization Act of 2024. The FAA is reopening the comment period to allow commenters an additional opportunity to provide feedback.

DATES: The comment period for this notice published on May 9, 2025, at 90 FR 19778, and closed on June 9, 2025, is reopened until July 9, 2025.

ADDRESSES: Send comments identified by docket number FAA-2025-0906 using any of the following methods:

Federal eRulemaking Portal: Go to http://www.regulations.gov and follow the online instructions for sending your comments electronically.

Mail: Send comments to Docket Operations, M-30; U.S. Department of Transportation, 1200 New Jersey Avenue SE, Room W12-140, West Building Ground Floor, Washington, DC 20590-0001.

Hand Delivery or Courier: Take comments to Docket Operations in Room W12-140 of the West Building Ground Floor at 1200 New Jersey Avenue SE, Washington, DC 20590-0001, between 9 a.m. and 5 p.m., Monday through Friday, except Federal holidays.

Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: David Menzimer at (202) 267-1100, Flight Standards Service, Federal Aviation Administration, 800 Independence Avenue SW, Washington, DC 20591.

SUPPLEMENTARY INFORMATION:

Background

On May 9, 2025, the FAA published a notice titled “Experimental Aircraft All Makes and Models Program,” in the Federal Register (90 FR 19778). Commenters were instructed to provide comments on or before June 9, 2025 (i.e., 30 days from the date of publication of the notice).

On June 9, 2025, the FAA received one request to extend the comment period of the notice. The FAA grants the request for extension and finds that an additional fifteen (15) days will provide sufficient opportunity for the public to comment. Therefore, the comment period for this notice is reopened until July 9, 2025.

Issued in Washington, DC.
Hugh J. Thomas
Acting Deputy Executive Director, Flight Standards Service.

[FR Doc. 2025-11521 Filed 6-23-25; 8:45 am]

BILLING CODE 4910-13-P